DEPARTMENT OF TRANSPORTATION

Federal Railroad Administration

Quarterly Reports of Positive Train Control System Performance

AGENCY: Federal Railroad Administration (FRA), Department of Transportation (DOT).

ACTION: Notice.

SUMMARY: The purpose of this notice is to inform the public that FRA has determined it is in the public interest for railroads to continue submitting reports of their positive train control (PTC) systems' performance to FRA on a quarterly basis as the Infrastructure Investment and Jobs Act currently requires, and as the Office of Management and Budget (OMB) has approved through March 31, 2027.

FOR FURTHER INFORMATION CONTACT: Gabe Neal, Staff Director, Signal, Train Control, and Crossings Division, telephone: 816-516-7168, email: Gabe.Neal@dot.gov.

SUPPLEMENTARY INFORMATION: On November 15, 2021, President Joseph R. Biden signed into law the Infrastructure Investment and Jobs Act, which included the Passenger Rail Expansion and Rail Safety Act of 2021.¹ Section 22414 of the Passenger Rail Expansion and Rail Safety Act of 2021 requires PTC-mandated host railroads ² and other railroads subject to FRA's PTC regulations ³ to submit Reports of PTC System Performance on Form FRA F 6180.152 ⁴ to FRA on a quarterly basis, instead of biannually as otherwise required by FRA's regulations at 49 CFR 236.1029(h).⁵

¹ Infrastructure Investment and Jobs Act, Public Law 117-58, 135 Stat. 429 (Nov. 15, 2021).

² I.e., host railroads subject to Title 49 United States Code (U.S.C.) 20157.

³ Title 49 Code of Federal Regulations (CFR) part 236, subpart I.

⁴ OMB Control No. 2130-0553. The Quarterly Report of PTC System Performance (Form FRA F 6180.152) is available in FRA's eLibrary at https://railroads.dot.gov/elibrary/quarterly-report-ptc-system-performance-form-fra-f-6180152.

⁵ 49 U.S.C. 20157(m).

Section 22414 of the Passenger Rail Expansion and Rail Safety Act of 2021 requires FRA, by November 15, 2024, to reduce the frequency with which host railroads must submit Reports of PTC System Performance (Form FRA F 6180.152) to not less frequently than twice per year, unless FRA determines that quarterly reporting is in the public interest and publishes a justification for such determination in the Federal Register. 49 U.S.C. 20157(m)(3)(B); 49 CFR 1.89. FRA has determined that it is in the public interest for host railroads to continue submitting Reports of PTC System Performance (Form FRA F 6180.152) to FRA on a quarterly basis, rather than reverting to a lesser or biannual frequency, and the purpose of this notice is to provide the necessary justification under Section 22414. See 49 U.S.C. 20157(m)(3)(B).

As background, 49 U.S.C. 20157(m) and 49 CFR 236.1029(h) require each applicable host railroad to submit certain metrics about PTC system performance to FRA on behalf of the host railroad itself and each of its applicable tenant railroads. The metrics include, for example, the number of PTC system initialization failures, cut outs, and malfunctions during the reporting period, with subtotals that identify whether the source or cause of the initialization failures, cut outs, and malfunctions was the onboard subsystem, the wayside subsystem, the communications subsystem, the back office subsystem, or a non-PTC component.⁶

⁶ 49 U.S.C. 20157(m)(2)(A)-(C); 49 CFR 236.1029(h)(1)(i)-(iii).

In addition, railroads' Reports of PTC System Performance (Form FRA F 6180.152) must encompass positive performance-related information in addition to failure-related information. For example, railroads report the number of enforcements by the PTC system in which it is reasonable to assume an accident or incident was prevented.⁷ These statistics enable FRA to evaluate PTC technology's positive impact on rail safety and the extent to which PTC systems are meeting their desired objectives.

⁷ 49 U.S.C. 20157(m)(2)(E); 49 CFR 236.1029(h)(1)(v).

In October 2021, OMB initially approved Form FRA F 6180.152 when it was a biannual reporting requirement under FRA's regulations, 49 CFR 236.1029(h), Biannual Report of PTC System Performance. In October 2022, OMB approved Form FRA F 6180.152, as modified by 49 U.S.C. 20157(m), simply to shift to a quarterly frequency as required. Most recently, in March 2024, OMB re-approved Form FRA F 6180.152 for a three-year period through March 31, 2027, in its current form, the Quarterly Report of PTC System Performance.

FRA has had the benefit of receiving railroads' Reports of PTC System Performance (Form FRA F 6180.152) on a quarterly basis for the last six quarters. FRA has found that the quarterly frequency has improved FRA's ability to oversee the performance and reliability of PTC systems effectively. For example, FRA has been able to monitor more closely industry-wide and system-by-system trends in PTC system reliability, without needing to wait six months for the next set of performance-related statistics. FRA also utilizes the data it receives in railroads' Quarterly Reports of PTC System Performance to inform and perform other necessary oversight, including inspections, targeted audits, and program reviews. The quarterly frequency enables FRA to direct its resources to areas, including specific PTC-governed track segments, that show the potential for a possible unsafe condition or where PTC system failures are occurring at a relatively high rate or trending upwards. The quarterly frequency enables FRA to intervene more promptly than it would be able to with less frequent reporting.

Also, railroads' Quarterly Reports of PTC System Performance must contain a summary of any actions the host railroad and its tenant railroads are taking to reduce the frequency and rate of initialization failures, cut outs, and malfunctions, such as any actions to correct or eliminate systemic issues and specific problems.⁸ Requiring railroads to provide this data to FRA on a quarterly basis, rather than a biannual basis, helps ensure that both host railroads and tenant railroads are regularly taking actions to improve the performance of their PTC systems and enables FRA to monitor and track railroads' corrective actions regularly throughout the year.

⁸ 49 U.S.C. 20157(m)(2)(H); 49 CFR 236.1029(h)(2).

As noted above, OMB has approved the Quarterly Report of PTC System Performance (Form FRA F 6180.152) through March 31, 2027. Before that expiration date, FRA will issue the requisite 60-day and 30-day notices in the Federal Register to solicit public comment pursuant to the Paperwork Reduction Act.

Issued in Washington, DC.
John Karl Alexy,
Associate Administrator for Railroad Safety, Chief Safety Officer.

[FR Doc. 2024-21654 Filed 9-20-24; 8:45 am]

BILLING CODE 4910-06-P